FEDERAL FINANCIAL INSTITUTIONS EXAMINATION COUNCIL

[Docket No. AS14-04]

Appraisal Subcommittee Notice of Meeting

AGENCY: Appraisal Subcommittee of the Federal Financial Institutions Examination Council.

ACTION: Notice of meeting.

Description: In accordance with Section 1104 (b) of Title XI of the Financial Institutions Reform, Recovery, and Enforcement Act of 1989, as amended, notice is hereby given that the Appraisal Subcommittee (ASC) will meet in open session for its regular meeting:

Location: Federal Reserve Board—International Square Location, 1850 K Street NW., Washington, DC 20006.

Date: April 9, 2014.

Time: 10:30 a.m.

Status: Open.

Chairman's Report

Executive Director's Report

Annual Agency Monitoring

Delegated State Compliance Reviews

Financial Report

Action Item: February 12, 2014 minutes—Open Session.

How to Attend and Observe an ASC meeting: If you plan to attend the meeting in person, we ask that you notify the Federal Reserve Board via email at appraisal-questions@frb.gov, requesting a return meeting registration email. The Federal Reserve Law Enforcement Unit will then send an email message with a Web link where you may provide your date of birth and social security number through their encrypted system. You may register until close of business February 5, 2014. You will also be asked to provide identifying information, including a valid government-issued photo ID, before being admitted to the meeting. Alternatively, you can contact Kevin Wilson at 202-452-2362 for other registration options. The meeting space is intended to accommodate public attendees. However, if the space will not accommodate all requests, the ASC may refuse attendance on that reasonable basis. The use of any video or audio tape recording device, photographing device, or any other electronic or mechanical device designed for similar purposes is prohibited at ASC meetings.

Dated: March 27, 2014.
James R. Park,
Executive Director.

[FR Doc. 2014-07273 Filed 3-31-14; 8:45 am]

BILLING CODE P